DEPARTMENT OF HEALTH AND HUMAN SERVICES

National Institutes of Health

National Institute of Neurological Disorders and Stroke; Amended Notice of Meeting

Notice is hereby given of a change in the meeting of the Board of Scientific Counselors, National Institute of Neurological Disorders and Stroke, May 7, 2023, 2:00 p.m. to 7:30 p.m., May 8, 2023, 8:30 a.m. to 9:00 p.m., and May 9, 2023, 9:00 a.m. to 12:30 p.m., The Bethesdan Hotel, 8120 Wisconsin Avenue, Bethesda, Maryland 20814, which was published in the Federal Register on April 14, 2023, FR Doc. 2023-07893, 88 FR 23093.

This notice is being amended to change the meeting format to virtual. The dates and times will remain the same. The meeting is closed to the public.

Dated: April 19, 2023.
Tyeshia M. Roberson-Curtis,
Program Analyst, Office of Federal Advisory Committee Policy.

[FR Doc. 2023-08627 Filed 4-24-23; 8:45 am]

BILLING CODE 4140-01-P